ENVIRONMENTAL PROTECTION AGENCY

[FRL-7120-6]

Agency Information Collection Activities: Submission for OMB Review; Comment Request; Application for Reference and Equivalent Method Determination

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Application for Reference and Equivalent Method Determination, OMB Control Number 2080-0005, expiration date December 31, 2001. The ICR describes the nature of the information collection and its expected burden and cost; where appropriate, it includes the actual data collection instrument.

DATES: Comments must be submitted on or before January 22, 2002.

ADDRESSES: Send comments, referencing EPA ICR No. 0559.07 and OMB Control No. 2080-0005, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR, contact Susan Auby at EPA by phone at (202) 260-4901, by e-mail at auby.susan@epamail.epa.gov, or download off the Internet at http://www.epa.gov/icr and refer to EPA ICR No. 0559.07. For technical questions about the ICR, contact Elizabeth T. Hunike on 919-541-3737; facsimile number: 919-541-1153; e-mail: Hunike.Elizabeth@epa.gov.

SUPPLEMENTARY INFORMATION: Title: Application for Reference and Equivalent Method Determination, OMB Control Number 2080-0005, EPA ICR No. 0559.07, expiring December 31, 2001. This is a request for extension of a currently approved collection.

Abstract: State air monitoring agencies are required to use EPA-designated reference or equivalent methods in their air monitoring networks to determine compliance with the national ambient air quality standards (NAAQS). A manufacturer or seller of an air monitoring method (more specifically, an air monitoring sampler or analyzer that is the basis of the method) which seeks EPA designation of the method must carry out prescribed tests of the method. The test results along with other information must then be submitted to the EPA in the form of an application for a reference or equivalent method determination in accordance with 40 CFR part 53. The EPA uses this information to determine whether the particular method should be designated as either a reference or equivalent method. After designation of a method, the applicant must also maintain records of the names and mailing addresses of all ultimate purchasers of all analyzers or samplers sold as designated methods under the method designation. Following designation of a method for PM2.5, the applicant must also maintain its manufacturing facility as a ISO 0991-registered facility and annually submit a checklist signed by an ISO-certified auditor to verify adherence to specific quality assurance requirements in the manufacture of the samplers or analyzers sold as part of a designated method.

Responses to the collection of information are voluntary but are required to obtain the benefit of EPA-designation of a method or product as a reference or equivalent method (40 CFR part 53). Submission of information that is claimed by the applicant to be confidential business information may be necessary to make a reference or equivalent method determination. The confidentiality of any submitted information identified as such will be protected in full accordance with 40 CFR 53.15 and all applicable provisions of 40 CFR part 2.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on June 25, 2001 (66 FR 33681); no comments were received.

Burden Statement: The annual public reporting and recordkeeping burden for this collection of information is estimated to be 860 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for-profit, Federal Government, or State, Local or Tribal Government.

Estimated Number of Respondents: 5.

Frequency of Response: As needed.

Estimated Total Annual Hour Burden: 4,718.

Estimated Total Annualized Capital, O&M and Cost Burden: $89,000.

Send comments on the Agency's need for this information, the accuracy of the provided burden estimates, and any suggested methods for minimizing respondent burden, including through the use of automated collection techniques to the addresses listed above. Please refer to EPA ICR No. 0559.07 and OMB Control No. 2080-0005 in any correspondence.

Dated: December 12, 2001.
Oscar Morales,
Director, Collection Strategies Division.

[FR Doc. 01-31344 Filed 12-19-01; 8:45 am]

BILLING CODE 6560-50-P